POSTAL REGULATORY COMMISSION

39 CFR Part 3030

[Docket Nos. RM2021-2, RM2022-5, RM2022-6, and RM2024-4; Order No. 8973]

RIN 3211-AA37

System for Regulating Rates and Classes for Market Dominant Products

AGENCY: Postal Regulatory Commission.

ACTION: Notice.

SUMMARY: The Postal Service filed a Motion requesting an extension of the comment deadline in this proceeding. The Commission grants the Motion and adds a reply comment deadline.

DATES: Comments are due: July 28, 2025. Reply Comments are due: August 7, 2025.

ADDRESSES: Submit comments electronically via the Commission's Filing Online system at https://www.prc.gov. Those who cannot submit comments electronically should contact the person identified in the FOR FURTHER INFORMATION CONTACT section by telephone for advice on filing alternatives. The Rule Summary can be found on the Commission's Rule Summary Page at https://www.prc.gov/rule-summary-page.

FOR FURTHER INFORMATION CONTACT: David A. Trissell, General Counsel, at 202-789-6820.

SUPPLEMENTARY INFORMATION:

Table of Contents

I. Introduction

II. Background

III. Commission Analysis

IV. Ordering Paragraphs

I. Introduction

On June 9, 2025, the Commission issued Order No. 8893 to initiate a phased rulemaking process and propose two rule changes to the Market Dominant ratemaking system as a first step of the phased process.¹ The Commission set a deadline of July 14, 2025 for comments on these two proposed rule changes.² On June 27, 2025, the Postal Service requested an extension of time until July 28, 2025 for all parties to submit comments.³ For the reasons discussed below, the Commission grants the Motion. The Commission also provides a deadline for reply comments of August 7, 2025.

¹ Notice of Proposed Rulemaking on the Statutory Review of the System for Regulating Rates and Classes for Market Dominant Products (Phase 2A Initiation), June 9, 2025 (Order No. 8893).

² Id. at 42 (setting the comment deadline at 30 days from the date of publication in the Federal Register of the proposed rules); System for Regulating Rates and Classes for Market Dominant Products, 90 FR 25006 (June 13, 2025) (setting July 14, 2025 as the comment deadline).

³ Motion of the United States Postal Service for Extension of Time for Parties to File Comments in Response to Order No. 8893, June 27, 2025 (Motion).

II. Background

The Commission proposed two rule changes in Order No. 8893: (1) restricting the Postal Service from adjusting Market Dominant rates more than once per fiscal year from October 1, 2025 through October 1, 2030; and (2) restricting the Postal Service from setting workshare discounts farther away from their avoided costs. Order No. 8893 at 4, Attachment. Regarding the proposal to restrict the Postal Service from adjusting Market Dominant rates more than once per year, the Commission performed some preliminary analysis of the potential lag effects of this proposal in response to the Postal Service's claim (made without any evidence to support) that its recent general pattern of adjusting Market Dominant rates approximately every 6 months instead of every year was intended to mitigate the lag effects between inflation rising and postal prices increasing. Id. at 17. In addition, the Commission published an initial Elasticity Study of the Postal Service's Market Dominant products “[t]o better understand the impacts of rate adjustments on the Postal Service and rate payers.” ⁴

⁴ Id. at 18; see Elasticity Study, Phase 1, June 9, 2025.

On June 12, 2025, the Postal Service requested that the Commission publish the preliminary lag analysis mentioned in Order No. 8893.⁵ The Postal Service further requested that the Commission publish all workpapers underlying the preliminary lag analysis and all workpapers underlying the Elasticity Study.⁶ On June 23, 2025, the Commission granted the Postal Service's request and published the requested materials in the instant dockets.⁷

⁵ Motion of the United States Postal Service for Immediate Publication of Commission Analysis Informing Order No. 8893, June 12, 2025.

⁶ Addendum to Motion of the United States Postal Service for Immediate Publication of Commission Analysis Informing Order No. 8893, June 12, 2025.

⁷ Order Granting Motion for Publication, June 23, 2025 (Order No. 8924). The materials underlying the Elasticity Study are provided as Library Reference PRC-LR-RM2024-4-2—Supporting Materials for Elasticity Study Phase 1. The lag effects analysis and its underlying workpapers are provided as Library Reference PRC-LR-RM2024-4-3—Preliminary Analysis Workpapers.

On June 27, 2025, the Postal Service filed the Motion requesting extension of time until July 28, 2025 for all parties to submit comments on the two proposed rule changes in Order No. 8893. Motion at 1. The Postal Service states that the Commission did not provide the preliminary lag analysis and workpapers underlying the preliminary lag analysis and the Elasticity Study until 14 days after the issuance of Order No. 8893 and 10 days after publication of the proposed rules in the Federal Register. Id. at 1-2. The Postal Service argues that the delayed publication of these materials has “cut down on the Commission's initial comment window for all parties involved to form meaningful comments.” Id. at 2. The Postal Service argues that proceeding with the initial comment window would deny all parties a fair opportunity to comment on the proposed rules and would undermine the notice-and-comment requirement under 5 U.S.C. 553. Id. The Postal Service further argues that “a two-week extension would have a minimal effect on the procedural schedule, and no party would be adversely impacted by an extension of the comment period . . .” Id.

III. Commission Analysis

A motion for extension of time “shall only be granted upon consideration of the potential adverse impact, if any, on other participants and the overall impact on the procedural schedule.” 39 CFR 3010.162(c). Having reviewed the Motion, the Commission finds that the Motion has met the criteria in 39 CFR 3010.162(c). The Motion is unopposed. Because this extension would apply to all interested persons, no other participant would be adversely impacted by the extension. Given that the proposed two-week extension is relatively brief, the Commission finds that such an extension would not adversely impact the overall procedural schedule of these proceedings.⁸ Accordingly, the Commission grants the Motion pursuant to 39 CFR 3010.162(c).

⁸ As stated in Order No. 8893, “[t]he Commission is interested in receiving comments from stakeholders on the proposed sunset period and the proposed effective dates of October 1, 2025 through October 1, 2030” for the proposal to restrict the Postal Service from adjusting Market Dominant rates more than once per year. Order No. 8893 at 13. “Depending on the public comment, the Commission may decide to consider potential adjustments to the proposed sunset period and the proposed effective dates of October 1, 2025 through October 1, 2030.” Id. Interested persons may take the potential impact of the extended comment deadline of July 28, 2025 into account when commenting on the proposed sunset period and the proposed effective dates of October 1, 2025 through October 1, 2030.

Because allowing a brief reply comment period would not adversely impact the overall procedural schedule or any participant, the Commission also provides a deadline for reply comments of August 7, 2025.

IV. Ordering Paragraphs

It is ordered:

1. The Motion of the United States Postal Service for Extension of Time for Parties to File Comments in Response to Order No. 8893, filed on June 27, 2025, is granted.

2. Comments on the proposed rule changes in the Notice of Proposed Rulemaking on the Statutory Review of the System for Regulating Rates and Classes for Market Dominant Products (Phase 2A Initiation), issued on June 9, 2025 (Order No. 8893), are due July 28, 2025.

3. Reply comments are due on August 7, 2025.

4. The Secretary shall arrange for publication of this Order, or abstract thereof, in the Federal Register.

By the Commission.
Erica A. Barker,
Secretary.

[FR Doc. 2025-12786 Filed 7-9-25; 8:45 am]

BILLING CODE 7710-FW-P